FEDERAL COMMUNICATIONS COMMISSION

47 CFR Part 73

[DA 16-1229; MB Docket No. 16-362; RM-11776]

Radio Broadcasting Services; Mullin, Texas

AGENCY: Federal Communications Commission.

ACTION: Proposed rule.

SUMMARY: This document proposes to amend the FM Table of Allotments, by substituting Channel 277A for vacant Channel 224A at Mullin, Texas, to accommodate the hybrid application requesting modification of the license for Station KNUZ(FM), San Saba, Texas to specify operation on Channel 224A rather than Channel 291A at San Saba, Texas. A staff engineering analysis indicates that Channel 277A can be allotted to Mullin consistent with the minimum distance separation requirements of the Commission's rules with site restriction 3.1 km (1.9 miles) north of the city. The reference coordinates are 31-35-00 NL and 98-40-31 WL.

DATES: Comments must be filed on or before December 19, 2016, and reply comments on or before January 3, 2017.

ADDRESSES: Federal Communications Commission, 445 12th Street SW., Washington, DC 20554. In addition to filing comments with the FCC, interested parties should serve the rule making petitioner and the counter proponent as follows: John C. Trent, Esq., Putbrese, Hunsaker & Trust, 200 S. Church Street, Woodstock, VA 22664.

FOR FURTHER INFORMATION CONTACT: Adrienne Y. Denysyk, Media Bureau, (202) 418-2700.

SUPPLEMENTARY INFORMATION: This is a synopsis of the Commission's Notice of Proposed Rule Making, MB Docket No. 16-362, adopted October 27, 2016. The FM Table of Allotment does not contain vacant Channel 224A at Mullins, Texas because the channel was removed from the FM Table because it was auctioned in Auction 93, and considered an authorized station. See 79 FR 64125, published October 28, 2014. Channel 224A at Mullins, Texas is no longer considered an authorized station but instead a vacant allotment because the construction permit for Station DKFON was cancelled on January 8, 2016. See File No. BNPH-20120523ABP. The full text of this Commission decision is available for inspection and copying during normal business hours in the FCC's Reference Information Center at Portals II, CY-A257, 445 12th Street, SW., Washington, DC 20554. The full text is also available online at http://apps.fcc.gov/ecfs/. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Provisions of the Regulatory Flexibility Act of l980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

Federal Communications Commission.
Nazifa Sawez,
Assistant Chief, Audio Division, Media Bureau.

For the reasons discussed in the preamble, the Federal Communications Commission proposes to amend 47 CFR part 73 as follows:

PART 73—RADIO BROADCAST SERVICES

1. The authority citation for part 73 continues to read as follows:

Authority: 47 U.S.C. 154, 303, 334, 336 and 339.

§ 73.202 [Amended]

2. In § 73.202(b) amend the table under Texas by adding Mullin, Channel 277A to read as follows:

§ 73.202 Table of Allotments.

* * * * *

(b) Table of FM Allotments.

Texas |
* * * * *
Mullin | 277A
* * * * *

* * * * *

[FR Doc. 2016-27221 Filed 11-10-16; 8:45 am]

BILLING CODE 6712-01-P